DEPARTMENT OF AGRICULTURE

Agricultural Marketing Service

[Doc. No. AMS-FGIS-25-0033]

Notice of Intent To Terminate Agricultural Marketing Service Master Scale Program

AGENCY: Agricultural Marketing Service, USDA.

ACTION: Notice; request for comments.

SUMMARY: The U.S. Department of Agriculture's (USDA) Agricultural Marketing Service (AMS) proposes to terminate the master scale testing program effective September 30, 2025. Significantly reduced customer usage has led to insufficient collection of user fees that are required to cover program costs. AMS seeks public comment on this service termination from affected parties.

DATES: Submit comments on or before September 18, 2025.

ADDRESSES: To submit comments in response to this notice, go to Regulations.gov (https://www.regulations.gov). Instructions for submitting and reading comments are detailed on the site. All comments must be submitted through the Federal e-rulemaking portal at https://www.regulations.gov and should reference the document number and the date and page number of this issue of the Federal Register. All comments submitted in response to this notice will be included in the record and will be made available to the public. Please be advised that the identity of the individuals or entities submitting comments will be made public on the internet at the address provided above.

FOR FURTHER INFORMATION CONTACT: Barry Gomoll, Grain Marketing Specialist, Federal Grain Inspection Service, AMS, USDA; telephone: (202) 720-8286; email: barry.l.gomoll@usda.gov.

SUPPLEMENTARY INFORMATION:

Authority

Section 16 of the United States Grain Standards Act (USGSA), as amended (7 U.S.C. 71 et seq.), states that the Secretary of Agriculture “may provide for the testing of weighing equipment used for purposes other than weighing grain.” The USGSA further states that the testing shall be performed “for a reasonable fee established by regulation or contractual agreement and sufficient to cover, as nearly as practicable, the estimated costs of the testing performed” and that testing “may not conflict with or impede the objectives” specified in the Congressional findings and declaration of policy of the USGSA. Moreover, AMS requires that scales used in the weighing of grain function in an approved manner (7 CFR 800.217(c)) and section 9 of the USGSA (7 U.S.C. 79b) requires the Secretary to provide regulations for the testing of official scales as the needed to ensure accuracy and integrity of that equipment. AMS uses this discretionary authority to maintain and operate the Federal Grain Inspection Service (FGIS) master scale depot.

Background

Since 1980, AMS has maintained and operated the master scale depot in Chicago, Illinois. AMS uses this depot as a central testing location to calibrate other master scales throughout the United States. Once AMS has completed testing and calibration, railroad companies and States can then calibrate their own railroad track scales and other industry owned scales with their own test cars to ensure uniform weighing performance.

From 2010 through 2019, AMS had an agreement with the Association of American Railroads (Association) that supported costs and maintenance of the master scale depot, weighing equipment, and salaries of personnel. The Association elected not to reestablish the agreement in 2020, thereby removing guaranteed funding that supported operating expenses. A primary reason the Association subsidized the scale calibration and testing services was consolidation of scale service providers, while the Association projected the number test cars sent to the Chicago-based master scale facility would increase. Today, the overall business environment and model has changed drastically. When AMS assumed the master scale calibration service decades ago, historical records indicate there were eleven master scales in use throughout the United States. In fiscal year 2024, AMS tested and calibrated only three of five currently operating master scales, two owned by railroad companies and one owned by the State of Minnesota. Due to the cancellation of the Association agreement and changes in business conditions, AMS has not collected sufficient fees to cover the cost of this service.

Service Fees

Maintaining the master scale program involves coverage of fixed and variable expenses that include, but are not limited to, facility maintenance, repairs, and utilities; weighing equipment technology and test car repairs, upgrades, or replacements to increase testing efficiency and reduce wear and tear on equipment; and personnel salaries and required training costs. AMS made attempts to generate business by modernizing operations that would ensure the accuracy of official weight certificates and traceability. AMS conducted long overdue renovations of the depot building in fiscal years 2020-2021 and replaced outdated equipment in fiscal year 2022. Due to the decreased volume of testing, the master scale testing program user fees have not kept pace with the fixed costs of operating the program.

AMS bills master scale testing customers through a combination of an hourly rate, travel expenses, and a daily rate for the use of the test car. AMS decreased scale testing fees each fiscal year from 2018-2020 and has only modestly increased fees in the years since, while overall testing volume remains unsustainably low. Since the termination of the Association agreement in 2020, individual companies assume user fee-based costs for each master scale test, which totaled approximately $7,800 per master scale test as of 2024. If AMS were to test all five master scales annually, the estimated revenue collection of $39,000 would only cover about 20 percent of the total cost of providing and maintaining the service, which is more than $200,000 each year. The USGSA requires that scale testing fees be reasonable and sufficient to cover applicable costs. AMS is not collecting sufficient fees to cover the cost of providing the master scale testing service. To continue operating the master scale testing program, AMS would require a significant user fee increase that the agency does not believe customers would consider reasonable.

Request for Comments

AMS proposes to cease operation of the master scale depot and transfer the depot to either another government agency or a private entity. AMS is soliciting feedback including data, recommendations, and other information from customer stakeholders on plans to terminate the master scale testing program service effective September 30, 2025. Faced with significantly less service volume and constrained revenue collection, AMS made substantial strides to adapt services to no avail. While scale calibration and testing services remain vital to all weighed freight moving on the U.S. railroad system, AMS can only operate the master scale program if it can be fully self-sustained through user fee funding. The USGSA does not mandate testing of scales used for commodities other than grain and AMS believes that non-federal expertise and viable providers through a State-government program or a private sector entity could preserve service affordability without compromising the integrity of standards.

AMS is also requesting any historical information pertaining to an agreement established in 1980 whereas the USDA Federal Grain Inspection Service (FGIS) and the National Institute of Standards and Technology (NIST)—formerly the National Bureau of Standards (NBS)—transferred responsibility to maintain the Chicago-based Master Scale facility to FGIS.

After reviewing feedback and comments submitted in response to this notice, AMS will make a final determination concerning the master scale testing program.

Erin Morris,
Administrator, Agricultural Marketing Service.

[FR Doc. 2025-15756 Filed 8-18-25; 8:45 am]

BILLING CODE P